DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR Part 107, Subpart B), notice is hereby given that the Office of Hazardous Materials Safety has received the applications described herein. Each mode of Transportation for which a particular exemption is requested is indicated by a number in the “Nature of Application'' portion of the table below as follows: 1—Motor vehicle, 2—Rail freight, 3—Cargo vessel, 4—Cargo aircraft only, 5—Passenger-carrying aircraft.

DATES: Comments must be received on or before April 24, 2000.

ADDRESS COMMENTS TO: Records Center, Research and Special Programs, Administration, Department of Transportation, Washington, DC 20590. Comments should refer to the application number and be submitted in triplicate. If confirmation of receipt of comments is desired, include a self-addressed stamped postcard showing the exemption application number.

FOR FURTHER INFORMATION CONTACT: Copies of the applications (see Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on March 17, 2000.
J. Suzanne Hedgepeth,
Director, Office of Hazardous Materials, Exemptions and Approvals.

New Exemptions
Application No. | Docket No. | Applicant | Regulation(s) affedted | Nature of exemption thereof
12431-N | RSPA-2000-7049 | TITEQ Corp., Palmdale, CA | 49 CFR 173.201, 173.202, 173.302, 173.304, 173.323, 175.3, 178.51 | To authorize the manufacture, marking, and sale of a reusable non-DOT specification, welded stainless steel cylinder for use in transportation of certain Division 2.2 materials. (Modes 1, 2, 4, 5.)
12432-N | RSPA-2000-7048 | Toxco Inc., Anaheim, CA | 49 CFR 171.14(a)(1) | To authorize the transportation in commerce of Class 8 material in non-UN packaging after October 1, 2001 that was filled prior to October 1, 1991. (Mode 1.)
12433-N | RSPA-2000-7047 | The Lighter Company, Inc., Miami, FL | 49 CFR 173.308(b) | To authorize the transportation and reclassification of lighters in limited quantities to be transported as ORM-D. (Mode 1.)
12434-N | RSPA-2000-7046 | Salmon Air, Salmon, ID | 49 CFR 172.101, 175.320 | To authorize the transportation of various hazardous materials to remote locations be excepted from certain regulations contained in the Hazardous Materials Regulations. (Mode 4.)
12437-N | RSPA-2000-7086 | Stericycle, Inc., Atlanta, GA | 49 CFR 171.8, 172.101, 173.197 | To authorize the transportation in commerce of non-DOT specification steel roll-off containers as outer packagings for use in transporting medical waste in dual packaging. (Mode 1.)
Note:Correction to FR Vol. 65, No. 40, Monday, February 29, 2000, Page 10852 “List of Applications for Exemptions” Med-Flex, Inc. Docket No. should have read “RSPA-2000-6913” instead of “RSPA-2000-6813”.

[FR Doc. 00-7189 Filed 3-22-00; 8:45 am]

BILLING CODE 4910-60-M